DEPARTMENT OF HOMELAND SECURITY

[Docket No. DHS-2008-0200]

Homeland Security Advisory Council

AGENCY: The Office of Policy, DHS.

ACTION: Committee Management; Notice of Closed Federal Advisory Committee Meeting.

SUMMARY: The Homeland Security Advisory Council (HSAC) will meet on January 12, 2009 in Washington, DC. The meeting will be closed to the public. This notice supplements the original meeting notice.

DATE: The HSAC will meet on Monday, January 12, 2009 from 12:30 p.m. to 2:30 p.m. EST.

ADDRESSES: The meeting will be held at DHS Headquarters at the Nebraska Avenue Complex, Washington, DC, 20528. Comments must be identified by DHS-2008-0200 and may be submitted by one of the following methods:

• Federal eRulemaking Portal: http://www.regulations.gov. Follow the instructions for submitting comments.

• E-mail: hsac@dhs.gov. Include the docket number in the subject line of the message.

• Fax: (202) 282-9207.

• Mail: Homeland Security Advisory Council, Department of Homeland Security, Mailstop 0850, 245 Murray Lane, SW., Washington, DC 20528.

Instructions: All submissions received must include the words “Department of Homeland Security” and the docket number for this action. Comments received will be posted without alteration at http://www.regulations.gov, including any personal information provided.

Docket: For access to the docket to read background documents or comments received by the HSAC, go to http://www.regulations.gov.

FOR FURTHER INFORMATION CONTACT: Homeland Security Advisory Council, Washington, DC 20528, (202) 447-3135, HSAC@dhs.gov.

SUPPLEMENTARY INFORMATION: Notice of this meeting is given under the Federal Advisory Committee Act, 5 U.S.C. App. (Pub. L. 92-463). The HSAC provides independent advice to the Secretary of the Department of Homeland Security to aide in the creation and implementation of critical and actionable policies and capabilities across the spectrum of homeland security operations. The HSAC periodically reports, as requested, to the Secretary, on such matters. The HSAC serves as the Secretary's primary advisory body with the goal of providing strategic, timely and actionable advice. The Federal Advisory Committee Act requires Federal Register publication 15 days prior to a meeting. The original HSAC meeting announcement was published 13 days prior to the meeting due to personnel issues. All known interested parties were made aware of the meetings with sufficient time for planning purposes. For agenda and other pertinent information please reference Federal Register Notice published on December 30, 2008 at 73 FR 79894.

Dated: January 5, 2009.
Michael Miron,
Acting Executive Director, Homeland Security Advisory Council.

[FR Doc. E9-110 Filed 1-7-09; 8:45 am]

BILLING CODE 4410-10-P